DEPARTMENT OF TRANSPORTATION

Federal Aviation Administration

14 CFR Part 39

[Docket No. FAA-2014-0159; Directorate Identifier 2014-NE-01-AD; Amendment 39-17905; AD 2014-15-03]

RIN 2120-AA64

Airworthiness Directives; Pratt & Whitney Canada Corporation Turboprop Engines

AGENCY: Federal Aviation Administration (FAA), DOT.

ACTION: Final rule.

SUMMARY: We are adopting a new airworthiness directive (AD) for certain serial number Pratt & Whitney Canada Corporation (P&WC) model PW150A turboprop engines. This AD requires rerouting of the igniter cables and installation of new support brackets. This AD was prompted by reports of damage to a high-pressure fuel line, which could result in a high-pressure fuel leak into the engine nacelle. We are issuing this AD to prevent high-pressure fuel leaks, which could cause engine fire and damage to the engine and the airplane.

DATES: This AD becomes effective August 27, 2014.

The Director of the Federal Register approved the incorporation by reference of a certain publication listed in this AD as of August 27, 2014.

ADDRESSES: For service information identified in this AD, contact Pratt & Whitney Canada Corp., 1000 Marie-Victorin, Longueuil, Quebec, Canada, J4G 1A1; phone: (800) 268-8000; fax: (450) 647-2888; Internet: www.pwc.ca. You may view this service information at the FAA, Engine & Propeller Directorate, 12 New England Executive Park, Burlington, MA. For information on the availability of this material at the FAA, call (781) 238-7125.

Examining the AD Docket

You may examine the AD docket on the Internet at http://www.regulations.gov by searching for and locating Docket No. FAA-2014-0159; or in person at the Docket Management Facility between 9 a.m. and 5 p.m., Monday through Friday, except Federal holidays. The AD docket contains this AD, the mandatory continuing airworthiness information (MCAI), the regulatory evaluation, any comments received, and other information. The address for the Docket Office (phone: (800) 647-5527) is Document Management Facility, U.S. Department of Transportation, Docket Operations, M-30, West Building Ground Floor, Room W12-140, 1200 New Jersey Avenue SE., Washington, DC 20590.

FOR FURTHER INFORMATION CONTACT: Wego Wang, Aerospace Engineer, Engine Certification Office, FAA, Engine & Propeller Directorate, 12 New England Executive Park, Burlington, MA 01803; phone: (781) 238-7134; fax: (781) 238-7199; email: wego.wang@faa.gov.

SUPPLEMENTARY INFORMATION:

Discussion

We issued a notice of proposed rulemaking (NPRM) to amend 14 CFR part 39 by adding an AD that would apply to the specified products. The NPRM was published in the Federal Register on April 10, 2014 (79 FR 19844). The NPRM proposed to correct an unsafe condition for the specified products. The MCAI states:

There have been reports of damage in excess of acceptable criteria to the high-pressure fuel line from the P&WC PW150A engine flowmeter to the flow divider. Damage has included fretting wear through contact with the engine igniter cables. The contact is the result of incorrectly routed igniter cables. While there has been no report of associated fuel leakage, the fretting wear, if undetected, could progress to a point where high-pressure fuel would leak into the engine nacelle.

Comments

We gave the public the opportunity to participate in developing this AD. We considered the comment received.

Request To Clarify Definition of Shop Visit

One commenter requested that we clarify the definition of shop visit because the igniter cables are on the exterior of the engine and no disassembly is required to gain access to the igniter cables.

We agree. We changed the definition of shop visit in paragraph (f) of this AD to be when an engine is inducted into the shop to perform maintenance.

Conclusion

We reviewed the available data, including the comment received, and determined that air safety and the public interest require adopting this AD with the changes described previously. We determined that these changes will not increase the economic burden on any operator or increase the scope of this AD.

Costs of Compliance

We estimate that this AD affects 180 engines installed on airplanes of U.S. registry. We also estimate that it would take about 1 hour per engine to comply with this AD. The average labor rate is $85 per hour. Required parts cost about $682 per engine. Based on these figures, we estimate the cost of this AD on U.S. operators to be $138,060.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Is not a “significant rule” under the DOT Regulatory Policies and Procedures (44 FR 11034, February 26, 1979),

(3) Will not affect intrastate aviation in Alaska to the extent that it justifies making a regulatory distinction, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2014-15-03 Pratt & Whitney Canada Corporation: Amendment 39-17905; Docket No. FAA-2014-0159; Directorate Identifier 2014-NE-01-AD.

(a) Effective Date

This AD becomes effective August 27, 2014.

(b) Affected ADs

None.

(c) Applicability

This AD applies to Pratt & Whitney Canada Corporation (P&WC) model PW150A turboprop engines, serial number PCE-FA0916 and earlier.

(d) Reason

This AD was prompted by reports of damage to a high-pressure fuel line, which could result in a high-pressure fuel leak into the engine nacelle. We are issuing this AD to prevent high-pressure fuel leaks, which could cause engine fire and damage to the engine and the airplane.

(e) Actions and Compliance

Comply with this AD within the compliance times specified, unless already done.

(1) At the next shop visit, but before 36 months from the effective date of this AD, reroute the igniter cables and install new support brackets in accordance with paragraph 3.B., Accomplishment Instructions, of P&WC Service Bulletin (SB) No. PW150-72-35274, Revision 1, dated May 3, 2012.

(2) Reserved.

(f) Definition

For the purpose of this AD, a shop visit is when the engine is inducted into the shop to perform maintenance.

(g) Credit for Previous Action

If you performed the actions in paragraph (e) of this AD before the effective date of this AD using P&WC SB No. PW150-72-35274, Initial Issue, dated March 23, 2012, you met the requirements of this AD.

(h) Alternative Methods of Compliance (AMOCs)

The Manager, Engine Certification Office, FAA, may approve AMOCs to this AD. Use the procedures found in 14 CFR 39.19 to make your request.

(i) Related Information

(1) For more information about this AD, contact Wego Wang, Aerospace Engineer, Engine Certification Office, FAA, Engine & Propeller Directorate, 12 New England Executive Park, Burlington, MA 01803; phone: (781) 238-7134; fax: (781) 238-7199; email: wego.wang@faa.gov.

(2) Refer to MCAI Transport Canada AD CF-2014-09, dated February 12, 2014, for more information. You may examine the MCAI in the AD docket on the Internet at http://www.regulations.gov/#!documentDetail;D=FAA-2014-0159-0003.

(j) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Pratt & Whitney Canada Corporation (P&WC) Service Bulletin No. PW150-72-35274, Revision 1, dated May 3, 2012.

(ii) Reserved.

(3) For P&WC service information identified in this AD, contact Pratt & Whitney Canada Corp., 1000 Marie-Victorin, Longueuil, Quebec, Canada, J4G 1A1; phone: (800) 268-8000; fax: (450) 647-2888; Internet: www.pwc.ca.

(4) You may view this service information at FAA, Engine & Propeller Directorate, 12 New England Executive Park, Burlington, MA. For information on the availability of this material at the FAA, call (781) 238-7125.

(5) You may view this service information at the National Archives and Records Administration (NARA). For information on the availability of this material at NARA, call (202) 741-6030, or go to: http://www.archives.gov/federal-register/cfr/ibr-locations.html.

Issued in Burlington, Massachusetts, on July 14, 2014.
Thomas A. Boudreau,
Acting Assistant Directorate Manager, Engine & Propeller Directorate, Aircraft Certification Service.

[FR Doc. 2014-17204 Filed 7-22-14; 8:45 am]

BILLING CODE 4910-13-P